DEPARTMENT OF TRANSPORTATION

Federal Highway Administration

Environmental Impact Statement; Washington, DC

AGENCIES: U.S. Federal Highway Administration, District of Columbia Division; District of Columbia, Department of Transportation.

ACTION: Notice of intent to prepare a Draft Environmental Impact Statement (DEIS).

SUMMARY: The U.S. Federal Highway Administration (FHWA) in coordination with the District of Columbia Department of Transportation (DDOT) in Washington, DC is issuing this notice to advise agencies and the public that a Draft Environmental Impact Statement (DEIS) will be prepared to asses the impacts of the proposed transportation improvements to the 11th Street Bridges.

FOR FURTHER INFORMATION CONTACT: Federal Highway Administration, District of Columbia Division: Mr. Michael Hicks, Environmental/Urban Engineer, 1900 K Street, Suite 510, Washington, DC 20006-1103, (202) 219-3513; or Mr. John Deatrick, Deputy Director/Chief Engineer, District of Columbia, Department of Transportation, 64 New York Avenue, NE., Washington, DC 20005, (202) 671-2800.

SUPPLEMENTARY INFORMATION: The environmental review of transportation improvement alternatives for the 11th Street Bridges will be conducted in accordance with the requirements of the National Environmental Policy Act (NEPA) of 1969, as amended (42 U.S.C. 4371, et seq.), Council on Environmental Quality (CEQ) regulations (40 CFR parts 1500-1508), FHWA Code of Federal Regulations (23 CFR 771.101-771.137, et seq.), and all applicable Federal, State, and local government laws, regulations, and policies.

Public Scoping Meetings: DDOT will solicit public and agency comments through public scoping, including scoping meetings, on the proposed action. To ensure that the full range of issues is identified early in the process, comments are invited from all interested and/or potentially affected parties. The location and time for each meeting will be publicized in local newspapers and elsewhere. Written comments will be accepted throughout this process and can be forwarded to John Deatrick at the address provided above.

Meeting dates, times, and locations will be announced on the project Web site accessible at http://www.11thStreetBridgesEIS.com and in the following newspapers: The Washington Post, The Washington Times, The Hill Rag, and East of the River.

Scoping materials will be available at the meetings and may also be obtained in advance of the meetings by contacting Mr. John Deatrick. Scoping materials will be made available on the project Web site. Oral and written comments may be given at the scoping meetings. Comments may also be sent to the address above.

Description of Primary Study Area and Transportation Needs

The existing 11th Street Bridges cross the Anacostia River in the southeast quadrant of the District of Columbia. They connect the Southeast Freeway (I-395) and the Anacostia Freeway (I-295) and they connect to local streets on both sides of the river. Existing ramps provide only partial movement between the freeways. The project area includes both interchanges, both bridges, and the associated ramps.

The purpose of the 11th Street Bridges project is to improve connectivity across the Anacostia River to serve local traffic reaching residential, employment, and commercial centers on opposite sides of the river and to serve regional traffic moving between the major employment center of downtown Washington, DC and residential communities in Maryland and Virginia. The DDOT proposes to improve this traffic flow by replacing or reconstructing the pair of one-way bridges and completing the now missing traffic movements to the Anacostia Freeway and the 11th Street Bridges.

The 11th Street Bridges project, as defined in the Anacostia Waterfront Initiative (AWI) Framework Plan, is intended to provide better access to waterfront areas east and west of the river, including Anacostia Park, separate local traffic from regional commuter traffic, and better serve historic Anacostia, and near southeast neighborhoods. It will connect the Southeast Freeway with traffic to and from both directions of the Anacostia Freeway. The AWI seeks to restore the river's water quality, reclaim the waterfront as a magnet of activity, and stimulate sustainable development in waterfront neighborhoods. The improvement of traffic flow across the 11th Street Bridges is a step in the reinvestment and reclamation process.

(Catalog of Federal Domestic Assistance Program Number 20.205 Highway Planning and Construction. The regulations and implementing Executive Order 12372 regarding intergovernmental consultation on Federal programs and activities apply to this program.)

Authority: 23 U.S.C. 315; 49 CFR 1.48.

Issued on: September 7, 2005.
Gary L. Henderson,
Division Administrator, District of Columbia Division, Federal Highway Administration.

[FR Doc. 05-18047 Filed 9-12-05; 8:45 am]

BILLING CODE 4910-22-M